DEPARTMENT OF HEALTH AND HUMAN SERVICES

Centers for Disease Control and Prevention

Smoking and Health Interagency Committee; Correction

ACTION: Notice; correction.

The Interagency Committee on Smoking and Health scheduled meeting for September 30, 2002, has been rescheduled for November 6, 2002.

Name: Interagency Committee on Smoking and Health.

Date and Time: 9 a.m.-4 p.m., November 6, 2002.

Place: Room 615F, Hubert H. Humphrey Building, 200 Independence Avenue, SW, 6th Floor, Washington, DC 20201.

In the Federal Register of September 16, 2002, Volume 67, Number 179, Notices, Pages 58428-58429 Interagency Committee on Smoking and Health scheduled meeting for September 30, 2002, has been rescheduled for November 6, 2002.

FOR FURTHER INFORMATION CONTACT: Ms. Monica L. Swann, Committee Management Specialist, Interagency Committee on Smoking and Health, Office on Smoking and Health, NCCDPHP, CDC, 200 Independence Avenue, SW, Room 317B, Washington, DC 20201, telephone (202) 205-8500.

The Director, Management Analysis and Services Office, has been delegated the authority to sign Federal Register notices pertaining to announcements of meetings and other committee management activities, for both the Centers for Disease Control and Prevention and the Agency for Toxic Substances and Disease Registry.

Dated: September 24, 2002.
John Burckhardt,
Acting Director, Management Analysis and Services Office Centers for Disease Control and Prevention.

[FR Doc. 02-24706 Filed 9-26-02; 8:45 am]

BILLING CODE 4163-18-P